DEPARTMENT OF HEALTH AND HUMAN SERVICES

Food and Drug Administration

Science Board to the Food and Drug Administration; Amendment of Notice

AGENCY: Food and Drug Administration, HHS.

ACTION: Notice.

The Food and Drug Administration (FDA) is announcing an amendment to the notice of meeting of the Science Board to the Food and Drug Administration (Science Board). This meeting was originally announced in the Federal Register of October 2, 2007 (72 FR 56078). The amendment is being made to reflect a change in the Date and Time and Procedure portions of the document. There are no other changes.

FOR FURTHER INFORMATION CONTACT: Carlos Peña, Office of the Commissioner, Food and Drug Administration (HF-33), 5600 Fishers Lane, Rockville, MD, 20857, 301-827-6687, carlos.Peña@fda.hhs.gov, or FDA Advisory Committee Information Line, 1-800-741-8138 (301-443-0572 in the Washington, DC area), code 3014512603.

SUPPLEMENTARY INFORMATION: In the Federal Register of October 2, 2007, FDA announced that a meeting of the Science Board would be held on October 30, 2007. On page 56078, beginning in the second column, the Date and Time and Procedure portions of the document are amended to read as follows:

Date and Time: The meeting will be held on December 3, 2007, from 8 a.m. to 5:30 p.m.

Procedure: Interested persons may present data, information, or views, orally or in writing, on issues pending before the committee. Written submissions may be made to the contact person on or before November 26, 2007. Oral presentations from the public will be scheduled between approximately 4 p.m. and 5 p.m. Those desiring to make formal oral presentations should notify the contact person and submit a brief statement of the general nature of the evidence or arguments they wish to present, the names and addresses of proposed participants, and an indication of the approximate time requested to make their presentation on or before November 16, 2007. Time allotted for each presentation may be limited. If the number of registrants requesting to speak is greater than can be reasonably accommodated during the scheduled open public hearing session, FDA may conduct a lottery to determine the speakers for the scheduled open public hearing session. The contact person will notify interested persons regarding their request to speak by November 19, 2007.

This notice is issued under the Federal Advisory Committee Act (5 U.S.C. app. 2) and 21 CFR part 14, relating to the advisory committees.

Dated: October 12, 2007.
Randall W. Lutter,
Deputy Commissioner for Policy.

[FR Doc. E7-20550 Filed 10-17-07; 8:45 am]

BILLING CODE 4160-01-S